SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1 through March 31, 2014.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(f) for the time period specified above:

Approvals By Rule Issued Under 18 CFR 806.22(f):

1. Southwestern Energy Production Company, Pad ID: TI-03 Porter Dennis—Pad, ABR-201403001, Union Township, Tioga County, Pa.; Consumptive Use of Up to 4.999 mgd; Approval Date: March 6, 2014.

2. Cabot Oil & Gas Corporation, Pad ID: GrimsleyJ P1, ABR-20090805.R1, Dimock Township, Susquehanna County, Pa.; Consumptive Use of Up to 3.575 mgd; Approval Date: March 11, 2014.

3. SWEPI LP, Pad ID: Tice 653, ABR-201403002, Richmond Township, Tioga County, Pa.; Consumptive Use of Up to 4.000 mgd; Approval Date: March 11, 2014.

4. SWEPI LP, Pad ID: Shughart 534, ABR-201403003, Richmond Township, Tioga County, Pa.; Consumptive Use of Up to 4.000 mgd; Approval Date: March 11, 2014.

5. SWEPI LP, Pad ID: Shughart 490, ABR-201403004, Richmond Township, Tioga County, Pa.; Consumptive Use of Up to 4.000 mgd; Approval Date: March 11, 2014.

6. Chesapeake Appalachia, LLC, Pad ID: Ward, ABR-20090519.R1, West Burlington Township, Bradford County, Pa.; Consumptive Use of Up to 7.500 mgd; Approval Date: March 18, 2014.

7. Pennsylvania General Energy Company, LLC, Pad ID: SGL 75 Pad F, ABR-201403005, McHenry Township, Lycoming County, Pa.; Consumptive Use of Up to 2.500 mgd; Approval Date: March 18, 2014.

8. Pennsylvania General Energy Company, LLC, Pad ID: SGL 75 Pad E, ABR-201403006, McHenry Township, Lycoming County, Pa.; Consumptive Use of Up to 2.500 mgd; Approval Date: March 18, 2014.

9. WPX Energy Appalachia, LLC, Pad ID: Carrar Pad Site, ABR-20090725.R1, Liberty Township, Susquehanna County, Pa.; Consumptive Use of Up to 3.000 mgd; Approval Date: March 18, 2014.

10. Talisman Energy USA Inc., Pad ID: 07 090 Choconut Valley Farms, ABR-201403007, Choconut Township, Susquehanna County, Pa.; Consumptive Use of Up to 6.000 mgd; Approval Date: March 21, 2014.

11. Southwestern Energy Production Company, Pad ID: JOHN GOOD WEST LU9 PAD, ABR-201403008, Jackson Township, Lycoming County, Pa.; Consumptive Use of Up to 4.999 mgd; Approval Date: March 21, 2014.

12. Seneca Resources, Pad ID: Clermont Pad D, ABR-201403009, Jones Township, Elk County, Pa.; Consumptive Use of Up to 4.000 mgd; Approval Date: March 25, 2014.

13. Inflection Energy LLC, Pad ID: Hamilton Well Site, ABR-201403010, Upper Fairfield Township, Lycoming County, Pa.; Consumptive Use of Up to 4.000 mgd; Approval Date: March 25, 2014.

14. Chesapeake Appalachia, LLC, Pad ID: TA, ABR-201403011, Colley Township, Sullivan County, Pa.; Consumptive Use of Up to 7.500 mgd; Approval Date: March 31, 2014.

15. Chesapeake Appalachia, LLC, Pad ID: Garrison, ABR-201403012, Washington Township, Wyoming County, Pa.; Consumptive Use of Up to 7.500 mgd; Approval Date: March 31, 2014.

16. Cabot Oil & Gas Corporation, Pad ID: HawkJ P1, ABR-201403013, Auburn Township, Susquehanna County, Pa.; Consumptive Use of Up to 4.275 mgd; Approval Date: March 31, 2014.

17. Cabot Oil & Gas Corporation, Pad ID: GrasavageE P1, ABR-201403014, Jessup Township, Susquehanna County, Pa.; Consumptive Use of Up to 4.250 mgd; Approval Date: March 31, 2014.

18. Cabot Oil & Gas Corporation, Pad ID: SlocumS P1, ABR-201403015, Jackson Township, Susquehanna County, Pa.; Consumptive Use of Up to 4.250 mgd; Approval Date: March 31, 2014.

19. Talisman Energy USA Inc., Pad ID: DCNR 587 Pad #17, ABR-20090932.R1, Ward Township, Tioga County, Pa.; Consumptive Use of Up to 3.000 mgd; Approval Date: March 31, 2014.

20. Talisman Energy USA Inc., Pad ID: DCNR 587 Pad #9, ABR-20091024.R1, Ward Township, Tioga County, Pa.; Consumptive Use of Up to 3.000 mgd; Approval Date: March 31, 2014.

21. Talisman Energy USA Inc., Pad ID: Knights 24, ABR-20091025.R1, Troy Township, Bradford County, Pa.; Consumptive Use of Up to 3.000 mgd; Approval Date: March 31, 2014.

Authority: Public Law 91-575, 84 Stat. 1509 et seq., 18 CFR Parts 806, 807, and 808.

Dated: June 24, 2014.
Stephanie L. Richardson,
Secretary to the Commission.

[FR Doc. 2014-15433 Filed 6-30-14; 8:45 am]

BILLING CODE 7040-01-P